SECURITIES AND EXCHANGE COMMISSION

Submission for OMB Review; Comment Request

Upon written request, copies available from: Securities and Exchange Commission, Office of Filings and Information Services, Washington, DC 20549.

Extension:

Appendix F to Rule 15c3-1, SEC File No. 270-440, OMB Control No. 3235-0496

Rule 17Ad-16, SEC File No. 270-363, OMB Control No. 3235-0413

Notice is hereby given that pursuant to the Paperwork Reduction Act of 1995 (44 U.S.C. 3501 et seq.) the Securities and Exchange Commission (“Commission”) has submitted to the Office of Management and Budget requests for extension of the previously approved collections of information discussed below.

Appendix F to Rule 15c3-1 requires a broker-dealer choosing to register as an OTC derivative dealer to develop and maintain an internal risk management system based on Value-at-Risk (“VAR”) models. Appendix F also requires the OTC derivatives to notify Commission staff of the system and of certain other periodic information including when the VAR model deviates from the actual performance of the OTC derivatives dealer's portfolio. It is anticipated that approximately six (6) broker-dealers will spend 1,000 hours per year complying with Appendix F. The total burden is estimated to be approximately 6,000 hours. Each broker-dealer will spend approximately $76,500 per response for a total annual expense for all broker-dealers of $459,000.

Rule 17Ad-16 requires a registered transfer agent to provide written notice to a qualified registered securities depository when assuming or terminating transfer agent services on behalf of an issuer or when changing its name or address. These recordkeeping requirements address the problem of certificate transfer delays caused by transfer requests that are directed to the wrong transfer agent or the wrong address.

Given that there are approximately 450 respondents who submit Rule 17Ad-16 notices, the staff estimates that the average number of hours necessary for each transfer agent to comply with Rule 17Ad-16 is approximately 15 minutes per notice or 3.5 hours per year, totaling 1,575 hours industry-wide. The average cost per hour is approximately $30 per hour, with the industry-wide cost estimated at approximately $47,250. However, the information required by Rule 17Ad-16 generally already is maintained by registered transfer agents. The amount of time devoted to compliance with Rule 17Ad-16 varies according to differences in business activity.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503; and (ii) Michael E. Bartell, Associate Executive Director, Office of Information Technology, Securities and Exchange Commission, 450 Fifth Street, NW., Washington, DC 20549. Comments must be submitted to OMB within 30 days of this notice.

Dated: January 22, 2001.
Margaret H. McFarland,
Deputy Secretary.

[FR Doc. 01-2472 Filed 1-26-01; 8:45 am]

BILLING CODE 8010-01-M